DEPARTMENT OF THE INTERIOR

Fish and Wildlife Service

50 CFR Part 23

[Docket No. FWS-HQ-IA-2015-0035; 96300-1671-0000-R4]

RIN 1018-AH89

Wild Bird Conservation Act; Blue-Fronted Amazon Parrots From Argentina's Sustainable-Use Management Plan

AGENCY: Fish and Wildlife Service, Interior.

ACTION: Proposed rule; withdrawal.

SUMMARY: We, the U.S. Fish and Wildlife Service (Service, or we), withdraw a 2003 proposed rule to approve a sustainable-use management plan developed by the Management Authority of Argentina for blue-fronted amazon parrots (Amazona aestiva), under the Wild Bird Conservation Act of 1992. We are taking this action because Argentina has withdrawn their application. As a result, we will no longer consider allowing importation of this species from Argentina under this plan.

DATES: This document is withdrawn as of December 21, 2015.

FOR FURTHER INFORMATION CONTACT: Craig Hoover, Chief, Division of Management Authority, U.S. Fish and Wildlife Service Headquarters, MS: IA; 5275 Leesburg Pike, Falls Church, VA 22041-3803; telephone 703-358-2095; facsimile 703-358-2298. If you use a telecommunications device for the deaf (TDD), call the Federal Information Relay Service (FIRS) at 800-877-8339.

SUPPLEMENTARY INFORMATION:

Background

The Convention on International Trade in Endangered Species of Wild Fauna and Flora (CITES) is an international treaty designed to regulate international trade in certain animal and plant species that are now, or may become, threatened with extinction. These species are listed in the Appendices to CITES, which are available on the CITES Secretariat's Web site at http://www.cites.org/eng/app/appendices.php. Currently 180 countries and the European Union have ratified, accepted, approved, or acceded to CITES; these 181 entities are known as Parties. The U.S. Fish and Wildlife Service has been delegated authority to carry out U.S. responsibilities under CITES.

The Wild Bird Conservation Act of 1992 (WBCA) limits or prohibits import into the United States of exotic bird species to ensure that their wild populations are not harmed by international trade. It also encourages wild bird conservation programs in countries of origin by ensuring that all imports of such species are biologically sustainable and not detrimental to the survival of the species.

Previous Federal Actions

On November 16, 1993, we published a final rule in the Federal Register (58 FR 60524) that implemented the prohibitions stipulated in the WBCA and provided permit requirements and procedures for some allowed exemptions. In that rule, we informed the public that imports of all CITES-listed birds (as defined in the rule) were prohibited, except for (a) species included in an approved list; (b) specimens for which an import permit has been issued; (c) species from countries that have approved sustainable-use management plans for those species; or (d) specimens from approved foreign captive-breeding facilities. Criteria for approval of sustainable-use management plans are in title 50 of the Code of Federal Regulations at 50 CFR 15.32.

Argentina petitioned the Service to allow the import into the United States of blue-fronted amazon parrots (Amazona aestiva) removed from the wild in Argentina under an approved sustainable-use management plan. Consequently, on August 10, 2000, we published a notice of receipt of application for approval in the Federal Register (65 FR 49007) that announced the receipt of a petition from the CITES Management Authority of Argentina, Dirección de Fauna and Flora Silvestre, for approval of a sustainable-use management plan for the blue-fronted amazon parrot in Argentina. On January 8, 2003, we published a notice in the Federal Register (68 FR 1066) announcing the availability of a draft environmental assessment of the addition of blue-fronted amazon parrots from a sustainable-use management plan in Argentina to the approved list of non-captive-bred birds under the WBCA.

Later that year, on August 6, 2003, we published a proposed rule in the Federal Register (68 FR 46559) to approve a sustainable-use management plan developed by the CITES Management Authority of Argentina for blue-fronted amazon parrots under the WBCA. The proposed rule would add blue-fronted amazon parrots from Argentina's program to the approved list of non-captive-bred (wild-caught) species contained at 50 CFR 15.33(b). The public comment period on the proposed rule was open for 60 days.

On March 29, 2005, we published a notice in the Federal Register (70 FR 15798) reopening the comment period on the proposed rule for 30 days to enter into the record Dr. Jorge Rabinovich's 2004 study, “Modeling the Sustainable Use of the Blue-Fronted Parrot (Amazona aestiva) in the Dry Chaco Region of Argentina,” and to accept comments related to the relationship of this study to the proposed addition of blue-fronted amazon parrots from Argentina's program to the approved list of non-captive-bred (wild-caught) species under the WBCA. On May 24, 2005, we published a notice in the Federal Register (70 FR 29711) reopening the comment period for an additional 45 days.

Reason for Withdrawal of Proposed Rule

We reviewed the public comments received during the open comment periods for the notice and the proposed rule and new information that became available after the publication of the proposed rule. We also reevaluated information in our files, our proposed rule, and Argentina's request, in accordance with our approval criteria in 50 CFR 15.32. As a result, we determined that it was unlikely that we would be able to make a positive finding for the sustainable-use management plan developed by Argentina for blue-fronted amazon parrots under the WBCA. Subsequently, Argentina determined that the best course of action would be to withdraw their application. Argentina withdrew its application by letter (undated) from the CITES Management Authority of Argentina (Ministry of the Environment of Sustainable Development), therefore, we are withdrawing our proposed rule of August 6, 2003 (68 FR 46559).

Author

The primary author of this document is Clifton A. Horton, Division of Management Authority, U.S. Fish and Wildlife Service (see FOR FURTHER INFORMATION CONTACT).

Authority

The authority for this action is the Endangered Species Act of 1973, as amended (16 U.S.C. 1531 et seq.).

Dated: December 9, 2015.
Stephen Guertin,
Acting Director, U.S. Fish and Wildlife Service.

[FR Doc. 2015-32054 Filed 12-18-15; 8:45 am]

BILLING CODE 4333-15-P